DEPARTMENT OF COMMERCE

National Oceanic and Atmospheric Administration

Proposed Information Collection; Comment Request; Alaska Vessel Monitoring System (VMS) Program

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or November 14, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for extension of a currently approved information collection.

Vessel Monitoring System (VMS) units integrate global positioning system (GPS) and communications electronics in a single, tamper-resistant package to automatically determine the vessel's position several times per hour. The units can be set to transmit a vessel's location periodically and automatically to an overhead satellite in real time. In most cases, the vessel owner is unaware of exactly when the unit is transmitting and is unable to alter the signal or the time of transmission. The VMS unit is passive and automatic, requiring no reporting effort by the vessel operator. A communications service provider receives the transmission and relays it to NOAA Fisheries Office for Law Enforcement and U.S. Coast Guard. Enforcement of measures, such as critical habitat no-fishing and directed fishing closures, is heavily reliant on use of VMS.

II. Method of Collection

Automatic GPS position reporting starts after VMS transceiver installation and power activation onboard the vessel. The unit is pre-configured and tested for NOAA Fisheries Service VMS operations. VMS check-in with NMFS, by fax, is required one time from vessel operators who purchase and install a new VMS on a vessel. Thereafter, submittal is automatic by satellite. All other VMS units are identified. Respondents must fax the one-time VMS check-in report.

III. Data

OMB Control Number: 0648-0445.

Form Number: None.

Type of Review: Regular submission (extension of a currently approved collection).

Affected Public: Business or other for-profit organizations; individuals or households.

Estimated Number of Respondents: 48.

Estimated Time per Response: 12 minutes for VMS check-in report; 4 hours for VMS operation (includes installation and maintenance).

Estimated Total Annual Burden Hours: 3,745.

Estimated Total Annual Cost to Public: $740,145.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 9, 2014.
Gwellnar Banks,
Management Analyst, Office of the Chief Information Officer.

[FR Doc. 2014-21879 Filed 9-12-14; 8:45 am]

BILLING CODE 3510-22-P